DEPARTMENT OF HOMELAND SECURITY

U.S. Customs and Border Protection

Notice of Revocation of Customs Broker Licenses

AGENCY: U.S. Customs and Border Protection, U.S. Department of Homeland Security.

ACTION: Customs broker license revocations for the failure to file the triennial status report and applicable fee.

SUMMARY: Notice is hereby given that pursuant to section 641 of the Tariff Act of 1930, as amended (19 U.S.C. 1641), and Title 19 of the Code of Federal Regulations at § 111.30(d), the following Customs broker licenses are revoked by operation of law without prejudice.

Last/company name | First name | License | Port name
Lequire | Cynthia A | 20655 | Anchorage
Ransom | Brian Charles | 13863 | Anchorage
Runfola | Thomas Michael | 12540 | Atlanta
Grizzard Customs Brokers, Inc |  | 21184 | Atlanta
Grizzard | Michael R | 13265 | Atlanta
McDonald-McGlone | Kay | 09543 | Atlanta
Simpson | Sherry Elaine | 13412 | Atlanta
McTiernan | Timothy | 15722 | Atlanta
O'Conner | William L | 16182 | Atlanta
Rivers | Myra B | 16155 | Atlanta
Peek | Brenda K | 13392 | Atlanta
Smolen | Lee Ellis | 09190 | Atlanta
Sheffield | Beverly J | 16856 | Atlanta
Pierce | Scott M | 15327 | Atlanta
Maltbie | Jean L | 20058 | Atlanta
Siebern | Marilyn C | 23594 | Atlanta
Bruno | Ann T | 10526 | Baltimore
Gontrum, Jr | Ralph W | 04695 | Baltimore
Johnson, Jr | William H | 05405 | Baltimore
Goodman | Richard J | 04226 | Baltimore
Fawcett | Rae Dematteis | 10953 | Baltimore
Hall | Melissa L | 22209 | Baltimore
Keenan | Helene | 17308 | Baltimore
Veit, Jr | Arthur B | 12464 | Baltimore
Schnobrich, III | Norman Thomas | 20113 | Baltimore
D Lee Kraus & Company, Ltd |  | 11766 | Baltimore
DAO Forwarding & Customs Brokerage, Inc |  | 17406 | Baltimore
DeBord | Barbara L | 16589 | Baltimore
Engers | Patricia D | 09267 | Baltimore
Coakley | Judy A | 20910 | Baltimore
Brennan | Frank R | 10364 | Baltimore
Olimpex International, Inc |  | 11452 | Baltimore
Smith | Margaret Desdamona | 12546 | Baltimore
Shaw | Kimberly G | 16387 | Baltimore
Kraus | Diane Eileen | 12465 | Baltimore
Mid-Atlantic Trade Services, Inc |  | 15081 | Baltimore
Miskiel | Alexander Robert | 12874 | Baltimore
Maraghy | Helene M | 17153 | Boston
Vitale | Kimberly B | 13600 | Boston
Hub Forwarding Company, Inc |  | 16274 | Boston
McFadyen | Joseph M | 21183 | Boston
Lewis | Clark G | 17068 | Boston
MacDonald | John C | 17488 | Boston
Wiley | Clintona Belle | 17391 | Boston
Anderson | Jeffrey D | 20369 | Boston
LaPorte, Jr | Wayne D | 21460 | Boston
Brendle | Thomas M | 16487 | Boston
Curley | Richard Francis | 04536 | Boston
Haughton | John Joseph | 10514 | Boston
Vanderlugt | Victor | 20505 | Boston
Curley | David George | 07094 | Boston
Massa | Anne L | 22295 | Boston
Pelliciotti | Robert B | 15998 | Boston
Mailly | Louise | 09119 | Boston
Medema | Nancy S | 14580 | Buffalo
Monin | Maureen E | 09152 | Buffalo
Koprowski | Joseph | 10941 | Buffalo
Sheldon | Stuart B | 04593 | Buffalo
Borowiecki | Anthony B | 07516 | Buffalo
Nocera | Annette | 11104 | Buffalo
Frederick | Jean M | 05947 | Buffalo
Lawhon | Joseph J | 12150 | Buffalo
Kudela | Kathleen L | 12613 | Buffalo
Buscaglia | Vincent P | 05921 | Buffalo
Bielmeier | Edward R | 06651 | Buffalo
Rosati | Frank J | 12552 | Buffalo
Deane | Richard T | 04754 | Buffalo
Delgado-White | Daniel | 20994 | Buffalo
Balling | Sandra C | 13477 | Buffalo
Hansen | David J | 21453 | Champlain
Zweeres | Katherine T | 11081 | Champlain
DiPrinzio | Charles | 04337 | Champlain
Tate | Brent | 21257 | Charlotte
Shelton | Patricia P | 20202 | Charlotte
Hallenbeck | Cheryl L | 15239 | Charlotte
Orr | Gwendolyn K | 17463 | Charlotte
West | Phyllis K | 14127 | Charlotte
Harrison | Albert K | 13529 | Charlotte
Goad | Jennifer Anne | 22294 | Charlotte
Al Smith Customs Brokers, Inc |  | 12534 | Charlotte
Collins | Debra G | 12176 | Chicago
Emmel | Margaret A | 09030 | Chicago
Osowski | Kenneth G | 07307 | Chicago
Reaves | Jacqueline | 15878 | Chicago
Hoglund | Steven S | 04429 | Chicago
Hoglund | Janet M | 05348 | Chicago
Wait | Gordon R | 13196 | Chicago
Lange | Patricia S | 14913 | Chicago
Wait | Merri M | 11599 | Chicago
Milton | Antoinette M | 13100 | Chicago
Branch | Bobby D | 14006 | Chicago
Stewart | Timothy S | 11597 | Chicago
Griffin | Michael A | 17160 | Chicago
Collignon | Connie L | 14566 | Chicago
Scala | Nora | 21789 | Chicago
Penz | James P | 23437 | Chicago
Hays | Dennis G | 05756 | Cleveland
Matthaes | Debora J | 21892 | Cleveland
Stamm | Michael F | 16377 | Cleveland
Bradford | William E | 12376 | Cleveland
Sugaski | Andrea | 22659 | Cleveland
Howard | Carol A | 20227 | Cleveland
Blount | Richard E | 12375 | Cleveland
Premec | Richard J | 15276 | Cleveland
Shafer | Brenda Sue | 12207 | Cleveland
Conde | Alicia C | 22534 | Cleveland
Kirsch | Elizabeth | 20223 | Cleveland
Westrick | Janet K | 20231 | Cleveland
Frost | Jessica L | 23669 | Cleveland
Holdredge | Jed D | 21516 | Dallas/Fort Worth
Weinbaum | Sandra Sue | 07388 | Dallas/Fort Worth
Webb | Lenora E | 21717 | Dallas/Fort Worth
Steinbach | Thomas J | 07045 | Dallas/Fort Worth
Hornsby | Michael David | 22473 | Dallas/Fort Worth
Weinbaum | Ralph Michael | 04645 | Dallas/Fort Worth
Martin | Tammie Sue | 21154 | Dallas/Fort Worth
Larson | Sharon Lee | 13773 | Detroit
Jeffries | Pamela Lynn | 21845 | Detroit
Klutz | Charlene | 10226 | Detroit
Majewski | Donald | 10228 | Detroit
Burtka | Sigmund A | 07879 | Detroit
Wallace | Julie Anne | 11271 | Detroit
Cobbs | Emily | 22058 | Detroit
McMahan | Diana Lynn | 22039 | Detroit
Raffin | Anthony J | 24103 | Detroit
White | James F | 15695 | Detroit
Brunner | Thomas A | 17240 | Detroit
Mertens | Ann F | 17238 | Detroit
Frank | Matthew S | 20295 | Detroit
Hall | Jennifer | 20456 | Detroit
Coe | Warren Emerson | 14976 | Detroit
LeBlanc, Jr | Albert Frederick | 16982 | Detroit
Bahan | Larry M | 14259 | Detroit
Karras | Spiros | 21349 | Detroit
Curran | Dennis John | 05999 | Detroit
Mahalak | Michael Louis | 14773 | Detroit
Farr | Steven James | 14303 | Detroit
Alcantar | Jose R | 02814 | El Paso
Camarillo | Jaime G | 16569 | El Paso
Burdett | Malcolm E | 17264 | El Paso
Lauser | Charles F | 15815 | El Paso
J & J Brokerage |  | 12742 | El Paso
Slack | Richard C | 02239 | El Paso
Mainwaring | Mark B | 13136 | El Paso
Weakley | Robert Dale | 11757 | Great Falls
Corrigan | Kathleen M | 15080 | Great Falls
Befort | Norman | 15057 | Great Falls
Holje | Shirley J | 03833 | Great Falls
Gemini Consultants |  | 16163 | Great Falls
SJ Lam, Inc |  | 14551 | Honolulu
Stowe | John Cleophas | 04202 | Honolulu
S DeFreest & Company, Inc |  | 07924 | Honolulu
Lam | Sun Kien | 03750 | Honolulu
Lam | Ernest S.S | 05100 | Honolulu
Khudabuksh | Walji | 09296 | Houston
Batra | Suraj P | 14047 | Houston
Villarreal | Jesse | 05074 | Houston
Holt | Terry R | 12386 | Houston
Hovel, Jr | William G | 03672 | Laredo
Mireles, Jr | Eugenio | 07043 | Laredo
Gorena | Fidela | 14814 | Laredo
Garcia | Armando | 19651 | Laredo
Esquivel | Gloria Y | 20978 | Laredo
Hopson | Margaret Jones | 22162 | Laredo
Martinez | Miguel Antonio | 14271 | Laredo
Borderlogic, Inc |  | 21095 | Laredo
Bustamante, Jr | Dionicio | 16983 | Laredo
Shipley | Michael P | 20155 | Laredo
Gutierrez | Jorge | 13588 | Laredo
Guevara Jr | Geronimo | 21901 | Laredo
Bridgeport Custom Brokers, Inc |  | 14368 | Laredo
Inter-Continental US CHB, Inc |  | 20140 | Laredo
Cienfuegos, Inc |  | 15211 | Laredo
Roser | Maria Estella P | 02301 | Laredo
Molina | Mase | 18007 | Laredo
Hord | James C | 21515 | Laredo
Gomez | Luis Jaime | 14386 | Laredo
CTC Distributing Ltd | Alberto Diaz | 22433 | Laredo
Brittain International, Inc |  | 07873 | Laredo
Hernandez | Ernesto | 12083 | Laredo
Resendez | Aquiles | 06977 | Laredo
Galindo | Sergio | 12335 | Laredo
Bruce | John M | 13161 | Laredo
Aguilar | Aida | 22084 | Laredo
Mireles | Thomas E | 17370 | Laredo
Ambrose, Jr | John H | 22099 | Laredo
Rollin | Michael William | 14902 | Laredo
Martinez | Bertha A | 15543 | Laredo
Aguiluz, IV | Amable | 06978 | Los Angeles
Waldner | Martha Jane | 07312 | Los Angeles
McCloskey | Jimmie E | 07672 | Los Angeles
Hopper | Michael D | 07017 | Los Angeles
Harris | Michael F | 09483 | Los Angeles
Powell | Barry Elliot | 13317 | Los Angeles
Chang | Ee-Shin | 13463 | Los Angeles
Lee | Whei-Jen | 13751 | Los Angeles
Kim | Augustine Young Dae | 12622 | Los Angeles
Lonon | Karen L | 12326 | Los Angeles
Ngo | Catherine C | 24181 | Los Angeles
Rollings | Patricia Diane | 17281 | Los Angeles
Tsui | Wing-Sze | 22192 | Los Angeles
Albornoz | Sandra G | 15810 | Los Angeles
Pardi | David | 22156 | Los Angeles
Pagett | Thomas Wendell | 17368 | Los Angeles
Clare Freight, Los Angeles, Inc |  | 21915 | Los Angeles
Mowery | Richard V | 21841 | Los Angeles
Trinity Customs Brokers, Inc | Frank A. Pubins III | 22248 | Los Angeles
Lee | T. Ted | 07185 | Los Angeles
Rios | Carlos Alberto | 12251 | Los Angeles
MacDonald | Glenn D | 22578 | Los Angeles
Anderson | Barbara Gail | 17221 | Los Angeles
Malonzo | Avelyne Elli | 21407 | Los Angeles
Michel | Glen Alan | 14397 | Los Angeles
Ferris | Karen A | 11519 | Los Angeles
Bae | Klaudia Kyung | 15809 | Los Angeles
Bowler | David Robert | 05219 | Los Angeles
Neyra, Jr | Aldo Lasaro | 17367 | Los Angeles
Nalls | Denise Lavonne | 13310 | Los Angeles
Fricke | Neil A | 10916 | Los Angeles
Weinberg | Milton | 04333 | Los Angeles
Archia | Robin Lou | 10915 | Los Angeles
DSL Integrated Logistics, Inc |  | 16544 | Los Angeles
Newland | Garry Eugene | 04072 | Los Angeles
Lee | Ilsun David | 20197 | Los Angeles
Kenehan | John William | 05809 | Los Angeles
Buffon | Paolo | 22474 | Los Angeles
Smith | Gary Wayne | 04545 | Los Angeles
Cuza | Fermin | 10966 | Los Angeles
Erchul | Elizabeth Jane | 10490 | Los Angeles
KMD Customhouse Broker |  | 11913 | Los Angeles
Ziobro | Eugene W | 17429 | Miami
Hernandez | Marta C | 20214 | Miami
Torres | Luis E | 16599 | Miami
Impex International Brokerage, Inc |  | 04512 | Miami
Santiago | Jesus | 05655 | Miami
Oropeza | Hugo V | 16324 | Miami
Simonitsch | William J | 15518 | Miami
Martin | Michael Ralph | 06803 | Miami
Trend | Barbara L.C | 12812 | Miami
Sexton | Terri | 20868 | Miami
Wilson | Michelle Marie | 15412 | Miami
Neary | Raymond G | 21307 | Miami
Hasselbring | Mark Alan | 10043 | Miami
Jimenez | Hugo | 15547 | Miami
Suarez | Amalia | 21224 | Miami
Santos | Magaret | 15786 | Miami
Ruvalcaba | Karla | 23511 | Miami
Nylen | Patricia Ann | 14360 | Milwaukee
Sacia | Paul J | 15102 | Minneapolis
Oakins | June W | 06241 | Minneapolis
Grigor | Margaret A | 13349 | Minneapolis
Ingham | Arthur Draper | 03844 | Minneapolis
Pope | Calvin Pruner | 06814 | Minneapolis
Thompson | Mark A | 20724 | Minneapolis
Storms | Amy M | 17489 | Minneapolis
St John Brothers, Inc |  | 06722 | New Orleans
World International Freight Forwarders, Inc | Catherine A. Finn | 04187 | New Orleans
Tate, Jr | James W | 11667 | New Orleans
Piazza, III | Anthony Robert | 04922 | New Orleans
Pollackov | Linda J | 09309 | New York
Kotcher | Daniel L | 09515 | New York
Lopez | Gustavo V | 09678 | New York
Douglas | Teresa | 09681 | New York
Vesque | Carole | 10027 | New York
Safian | Stanley | 10430 | New York
Duffel | Paula | 10434 | New York
Goodwin | Lucia Lanzaro | 11958 | New York
Feldman | Alyssa | 11180 | New York
Marchini | James Louis | 11581 | New York
Levine | Mark J | 11618 | New York
ISA Import Clearance, Inc |  | 11785 | New York
Ciaccio | Christa A | 09229 | New York
Penson | Thomas A | 03950 | New York
Borodyansky | Boris | 11163 | New York
Mazzarise | Joseph Gerard | 05135 | New York
Dowling | Ann Marie | 12154 | New York
Kelly-Paturalski | Helen M | 07967 | New York
PH Petry Company |  | 00055A | New York
Trombetta | James C | 02899 | New York
Rosten | Marvin | 03084 | New York
Cramer | Bernard M | 04972 | New York
Kron | Harry | 05043 | New York
Fabricant | Gregory P | 07506 | New York
Cuomo | Carmine | 05545 | New York
Intercorp Forwarders, Ltd |  | 05777 | New York
Hummel | Gordon R | 05838 | New York
Kennell | Thomas M | 05912 | New York
Bartone | Paul J | 06830 | New York
Rossi | Roland | 06922 | New York
Plunkett | James J | 04810 | New York
Friedkin | Don S | 06545 | New York
Huston | Craig | 07528 | New York
Thornton | Kathleen T | 09510 | New York
Freight Wings, Inc |  | 09617 | New York
Sessa | Ralph J | 09984 | New York
Rios | Geraldine T | 11186 | New York
Worms | Scarlett | 10984 | New York
Bacigalupo | Arnold J | 10480 | New York
Antonisen | Christopher R | 06280 | New York
Chechakos | Lori Hasson | 10035 | New York
Hoffman | Marcia R | 06469 | New York
Bloom | Philip | 05144 | New York
Duffield | John Gilson | 05829 | New York
Marsh | Michele | 20575 | New York
Silvey | Cheryl D | 07756 | New York
Montanez | Dominga | 12620 | New York
Weinstein | Harold | 11363 | New York
Wechsler | Lara | 21634 | New York
Kim | Eric Sehoon | 23577 | New York
Russell | Michael E | 22702 | New York
Orzel | John George | 22328 | New York
Aufiero | Gabriel | 22213 | New York
Artesian Consulting LLC | Howard Bender | 22815 | New York
Tierney | Mark | 22093 | New York
Albert | Richard P | 09674 | New York
Atta | Kamil | 21739 | New York
Antonisen | Barbara | 09288 | New York
Freeman | Maxine A | 21375 | New York
Smith | Mary Josephine | 21162 | New York
Hayes | Eugene F | 03693 | New York
Oceano Shipping Company, Inc |  | 00611 | New York
Dalipi | Ismet | 20908 | New York
Anthem Worldwide Lines, Inc |  | 20922 | New York
Campisi | Peter John | 21855 | New York
Cooper | Harriet S | 04928 | New York
Emposimato | Anthony | 04930 | New York
Sirinek | Douglas W | 04663 | New York
Aloyd Forwarding Company, Inc |  | 05922 | New York
Couret | Jose | 05039 | New York
McAdam | Michael P | 05087 | New York
Antonelli | Joseph | 04804 | New York
Rosenberg | Edward | 02869 | New York
Kim | Haingduck | 16243 | New York
Solomon | Julius | 02703 | New York
Woo | Samantha C. M | 17389 | New York
Cunningham | Brian P | 17376 | New York
Koczan | David M | 17293 | New York
Borriello | Lisa A | 14990 | New York
Huff | Robin A | 13928 | New York
Truzzolino | Angela | 12636 | New York
Kelly | Martin J | 03696 | New York
Molina | Christian M | 17132 | New York
Oh | Gloria S | 15790 | New York
JM Customs Brokers, Inc |  | 13767 | New York
Paik | Chong Min | 13792 | New York
Chang | Young Chan | 13909 | New York
Kneipher | Charles A | 14472 | New York
Corsello | Christine | 14504 | New York
Trovato | Vincent S | 12597 | New York
Bonvissuto | Michael J | 04973 | New York
Dib | Jeanne Ohan | 16540 | New York
Antoniello | Rosario | 03602 | New York
Johnson | Scott D | 17090 | New York
Digena | Stephanie | 16624 | New York
Four Corners, Inc |  | 16691 | New York
Juliussen | Ellen | 15497 | New York
Trachman | Daniel M | 18013 | New York
Loewenstein | Irwin | 03102 | New York
Carlstedt | Kenneth David | 13049 | New York
Moylan | Steven G | 15407 | Nogales
Fernandez | Clementina | 15165 | Nogales
Ahumada | Marco | 11735 | Nogales
Gross | Julia L | 10886 | Norfolk
Global Trade Resources, Inc | Julia L. Gross | 22588 | Norfolk
Rhodes | Marvin D | 04418 | Norfolk
Jones | Darlene Dutton | 10884 | Norfolk
White | Gordon M | 06683 | Norfolk
Suslaev | Alexey A | 21236 | Norfolk
Blankenship | Candice K | 10503 | Norfolk
Clark | Erin L | 22403 | Otay Mesa
Cubilla | Phillip A | 05884 | Otay Mesa
McNally | John V | 07900 | Otay Mesa
Horacek | Kathleen | 15996 | Otay Mesa
Le | Tomy | 21328 | Otay Mesa
Arth | David T | 04602 | Philadelphia
Dracha | David | 20769 | Philadelphia
Fritzinger | Amy | 22108 | Philadelphia
Frederick | Ted D | 10654 | Philadelphia
Semel | Dana L | 15735 | Philadelphia
Borgerding | Madonna M | 13219 | Philadelphia
Myers | Ronald W | 15479 | Philadelphia
Martinez | Ignatius R | 10101 | Philadelphia
Trinidad | Lamberto B | 07785 | Philadelphia
Murphy | Patrick J | 08089 | Philadelphia
Brown | Kenneth W | 10270 | Philadelphia
Klingbeil | Susan | 10847 | Philadelphia
Cook | Edgar G | 03771 | Portland, ME
Guerra | Ralph M | 12372 | Portland, ME
Albert | Liane E | 17243 | Portland, ME
Howland | Edwina K | 15243 | Portland, ME
Hice | Thomas J | 15253 | Portland, OR
McCathern | Nora Magdalene | 15096 | Portland, OR
Bouray | Dale A | 05295 | Portland, OR
Black | Francis Robert | 03547 | Providence
McNamara | Diane M | 06396 | Providence
Carr | Kevin James | 20124 | San Diego
Bowen | Ted B | 15374 | San Diego
Romero and McNally Co., Inc |  | 09620 | San Diego
Quinby | James C | 22706 | San Francisco
Miller | Lindy Lois | 05238 | San Francisco
Daniels | Thomas David | 13147 | San Francisco
Bradley | Evelyn Marlene | 13564 | San Francisco
Boyle | Nancy A | 05873 | San Francisco
McBride | Beth Cheri | 08038 | San Francisco
Rasheed | Samuel Safwat | 06032 | San Francisco
Webster | James A | 04342 | San Francisco
Connolly | Timothy M | 22714 | San Francisco
McGee | Sally J | 06834 | San Francisco
Lind | Mary Barbara | 07040 | San Francisco
Griffin | Gerald W | 05536 | San Francisco
Kelly | Timothy Edward | 13011 | San Francisco
Cummins | Sherri Lynn | 17474 | San Francisco
Elliott | Tracey Susan | 10363 | San Francisco
Carino | Nina Cynthia | 20350 | San Francisco
DelaTorre | Frank S | 05623 | San Francisco
Anderson | Scott Erik | 16354 | San Francisco
Severino | Olga J | 16760 | San Francisco
Katson | Denise Simone | 11826 | San Francisco
Martin | George W | 10854 | San Francisco
Jung | Peter | 20680 | San Francisco
Rhode | Stephen A | 12346 | San Francisco
Abdou | Toni | 21047 | San Francisco
Mundie | Robert J | 10855 | San Francisco
Kerti | Janice | 09271 | San Francisco
Knowles | Gayla J | 08091 | Savannah
Sutton | Patricia A | 10156 | Savannah
Sandt | Raymond E | 13118 | Savannah
Brandsborg Oros | Amy | 15069 | Savannah
Hurt | Kathy P. (Chance) | 09191 | Savannah
Bredeman | Kevin | 21320 | Seattle
Colton | Anna-Marie | 21049 | Seattle
Brown-Ramby | Holly S | 15029 | Seattle
Roleter | George R | 10238 | Seattle
Blue | Michele | 22500 | Seattle
Thibault | Dennis J | 09141 | Seattle
Balk | Barbara J | 05340 | Seattle
Williams | Sam | 12026 | Seattle
Roznowski | Baerbel K | 15178 | Seattle
Duerst | Tricia J | 15359 | Seattle
Tylen | George E | 03827 | Seattle
Tiffin | Phyllis L | 10110 | Seattle
Holliday | Wendy C | 17561 | Seattle
Erwin, II | Robert Charles | 13473 | Seattle
Johnson | Barbara E | 12293 | Seattle
Norton | Henry L | 02704 | Seattle
Noble | Joshua | 16198 | St. Albans
Rocheleau | Paul A | 05990 | St. Albans
Demers | Clifton Paul | 12611 | St. Albans
Midyett | Cheryl Ann | 17011 | St. Louis
Caudill | Jeramy Eugene | 23068 | St. Louis
Meester | Jason Wayne | 20466 | St. Louis
Toye | Bernita Ann | 14380 | Tampa
Action International Logistics, Inc | John Lebold | 22924 | Tampa
Reba | Maria | 22241 | Tampa
ATEC Customs Brokerage, Inc |  | 22923 | Tampa
Auditrade, Inc |  | 16550 | Tampa
Copeland Company, Inc |  | 04372 | Tampa
Duty Recovery Services, Inc |  | 20948 | Tampa
Brouillet | Barry F | 07930 | Tampa
Carson | Lloyd Christopher | 17056 | Tampa
Fette | Mary M | 14871 | Tampa
H Conrad & Associates, Inc |  | 12858 | Tampa
Cassise | Christopher J | 20143 | Washington, DC
Jung | Holly D | 16706 | Washington, DC
Gwilliam | Josette | 05781 | Washington, DC
Ferguson | Anthony R | 10934 | Washington, DC
Soyka | David | 22351 | Washington, DC
Moritsugu | Erika L | 23065 | Washington, DC
St. John | Julia E | 12205 | Washington, DC
Barr | Richard P | 23924 | Washington, DC

Dated: November 10, 2011.
Allen Gina,
Assistant Commissioner, Office of International Trade.

[FR Doc. 2011-29868 Filed 11-17-11; 8:45 am]

BILLING CODE 9111-14-P